NATIONAL CAPITAL PLANNING COMMISSION

Notice of Public Comment Period and Public Meetings on Updates to the Submission Guidelines Related to Equity

AGENCY: National Capital Planning Commission.

ACTION: Notice of 90-Day public comment period and public meetings.

SUMMARY: The National Capital Planning Commission (NCPC) has released for public review draft updates to the Submission Guidelines related to equity. Federal and non-Federal agency applicants whose development proposals and plans are subject to statutory mandated Commission plan and project review must submit their proposals to the Commission following a process laid out in the Submission Guidelines. The proposed updates to the Submission Guidelines support the forthcoming updates to the Introduction Chapter of the Comprehensive Plan for the National Capital: Federal Elements. A Notice of a 90-day Public Comment Period and Public meetings relating to the revised update to the Introduction to the Comprehensive Plan for the National Capital: Federal Elements to address equity is published elsewhere in this issue of the Federal Register. The draft updates to the Submission Guidelines are available online for review at https://www.ncpc.gov/initiatives/ intro. NCPC will host two public information sessions for the public to learn more about the draft updates to the Submission Guidelines.

DATES: The public comment period closes March 12, 2024. A virtual public meeting will be on January 25, 2024, from 12:00 p.m. to 1:30 p.m. Registration information for the meeting can be found at https://www.ncpc.gov/initiatives/ intro.

An in-person public meeting will be on February 20, 2024, from 6:00 p.m. to 7:30 p.m. at NCPC, the address of which is the same for submission of written comments below.

ADDRESSES: Written public comments on the draft may be submitted by either method:

1. U.S. mail, courier, or hand deliver: Submission Guidelines Public Comment, National Capital Planning Commission, 401 9th Street NW, Suite 500N, Washington, DC 20004.

2. Electronically: https://www.ncpc.gov/initiatives/intro.

FOR FURTHER INFORMATION CONTACT: Laura Shipman at (202) 482-7251 or info@ncpc.gov.

Authority: 40 U.S.C. 8721(e)(2).

Dated: December 7, 2023.
Anne R. Schuyler,
General Counsel.

[FR Doc. 2023-27284 Filed 12-12-23; 8:45 am]

BILLING CODE P